ENVIRONMENTAL PROTECTION AGENCY

[FRL-7255-7]

Agency Information Collection Activities: Submission for OMB Review; Comment Request; NESHAP: Steel Pickling; 40 CFR Part 63, Subpart CCC

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: National Emission Standard for Hazardous Air Pollutants (NESHAP): Steel Pickling; 40 CFR part 63, subpart CCC; OMB Control No. 2060-0419; expiration date July 31, 2002. The ICR describes the nature of the information collection and its expected burden and cost; where appropriate, it includes the actual data collection instrument.

DATES: Comments must be submitted on or before September 4, 2002.

ADDRESSES: Send comments, referencing EPA ICR No. 1821.03 and OMB Control No. 2060-0419 to the following addresses: Susan Auby, U.S. Environmental Protection Agency, Collection Strategies Division (Mail Code 2822T), 1200 Pennsylvania Avenue, NW., Washington, DC 20460-0001; and to the Office of Information and Regulatory Affairs, Office of Management and Budget (OMB), Attention: Desk Officer for EPA, 725 17th Street, NW., Washington, DC 20503.

FOR FURTHER INFORMATION CONTACT: For a copy of the ICR contact Susan Auby at EPA by phone at (202) 566-1672, by E-Mail at auby.susan@epa.gov, or download off the Internet at http://www.epa.gov/icr and refer to EPA ICR No. 1821.03. For technical questions about the ICR contact María Malavé; in the Office of Compliance at (202) 564-7027 or via E-mail to malave.maria@epa.gov.

SUPPLEMENTARY INFORMATION: Title: NESHAP (National Emission Standard for Hazardous Air Pollutants): Steel Pickling; 40 CFR part 63, Subpart CCC; OMB Control No. 2060-0419, EPA ICR No. 1821.03; expiration date July 31, 2002. This is a request for extension of a currently approved collection.

Abstract: The National Emission Standards for Hazardous Air Pollutants (NESHAP) for Steel Pickling, published at 40 CFR part 63, subpart CCC, were proposed on September 18, 1997, (62 FR 49051) and promulgated on June 22, 1999 (64 FR 33202). This rule applies to all facilities that pickle steel using hydrochloric acid or regenerate hydrochloric acid, and are major sources or are part of a facility that is a major source. This regulation does not apply to any pickling line that uses an acid other than hydrochloric acid or an acid solution containing less than 6 percent HCl or at a temperature less than 100 °F. This rulemaking establishes limits for hydrochloric acid emissions from continuous and batch pickling lines and acid regeneration units and limits for chlorine emissions from acid regeneration units. Also, operational and equipment standards are established for stationary acid storage vessels.

The monitoring, recordkeeping, and reporting requirements outlined in the rule are similar to those required for other NESHAP regulations. Plants must demonstrate compliance with the emission standards by monitoring their control devices and performing annual emissions testing. Consistent with the NESHAP General Provisions (40 CFR part 63, subpart A), respondents would submit one-time notifications of applicability and a one-time report on performance test results for the primary emission control device. Plants also must develop and implement a Startup, Shutdown, and Malfunction Plan (SSMP) and submit semiannual reports of any event where the procedures in the plan were not followed. Sources are required to submit semiannual reports at all times including for periods of monitoring exceedances and periods of compliance certifying that no exceedances have occurred. Subpart CCC also requires the owner or operator to submit a written maintenance plan for each emission control device. These notifications, reports, and records are essential in determining compliance, and are required of all sources subject to NESHAP. Any owner or operator subject to the provisions of this part shall maintain a file of these measurements, and retain the file for at least five years following the date of such measurements, maintenance reports, and records.

An agency may not conduct or sponsor, and a person is not required to respond to, a collection of information unless it displays a currently valid OMB control number. The OMB control numbers for EPA's regulations are listed in 40 CFR part 9 and 48 CFR Chapter 15. The Federal Register document required under 5 CFR 1320.8(d), soliciting comments on this collection of information was published on October 29, 2001. No comments were received.

Burden Statement: The annual public reporting and recordkeeping burden for this collection of information is estimated to average 108.8 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Major sources that pickle steel using hydrochloric acid or regenerate hydrochloric acid/Affected entities include continuous and batch pickling lines, acid regeneration units, and stationary acid storage vessels.

Estimated Number of Respondents: 71.3.

Frequency of Response: Initial and semiannual.

Estimated Total Annual Hour Burden: 25,104 hours.

Estimated Total Annualized Capital and Operating & Maintenance Cost Burden: $8,388.

Send comments on the Agency's need for this information, the accuracy of the provided burden estimates, and any suggested methods for minimizing respondent burden, including through the use of automated collection techniques to the following addresses. Please refer to EPA Preliminary ICR No. 1821.03 and OMB Control No. 2060-0419, in any correspondence.

Dated: July 29, 2002.
Oscar Morales,
Director, Collection Strategies Division.

[FR Doc. 02-19695 Filed 8-2-02; 8:45 am]

BILLING CODE 6560-50-P